DEPARTMENT OF THE INTERIOR

Bureau of Land Management

[LLWO35000.L14300000.ER0000.24-1A; OMB Control Number 1004-0153]

Information Collection; Conveyance of Federally-owned Mineral Interests

AGENCY: Bureau of Land Management, Interior.

ACTION: 30-Day Notice and Request for Comments.

SUMMARY: The Bureau of Land Management (BLM) has submitted an information collection request to the Office of Management and Budget (OMB) for a 3-year extension of OMB Control Number 1004-0153 under the Paperwork Reduction Act. The Bureau of Land Management (BLM) needs to collect the information in order to determine if surface-estate owners are eligible to receive title to the Federally-owned minerals lying beneath their land.

DATES: The OMB is required to respond to this information collection request within 60 days but may respond after 30 days. Therefore, written comments should be received on or before April 24, 2009.

ADDRESSES: You may submit comments directly to the Desk Officer for the Department of the Interior (OMB # 1004-0153), Office of Management and Budget, Office of Information and Regulatory Affairs, by fax 202-395-7245, or by electronic mail at oira_docket@omb.eop.gov.

In addition, please mail or hand-carry a copy of your comments to BLM Information Collection Clearance Officer (WO-630), Department of the Interior, 1849 C Street, NW., Mail Stop 401 LS Washington, DC 20240; or send a copy of your comments by electronic mail to jean_sonneman@blm.gov, “Attn: 1004-0153”.

FOR FURTHER INFORMATION CONTACT: Alzata Ransom, Division of Lands, Realty and Cadastral Survey, at 202-452-7772 (Commercial or FTS).

SUPPLEMENTARY INFORMATION: 60-Day Notice: On September 23, 2008, the BLM published a 60-day notice (73 FR 54849) requesting comments on the proposed information collection. The comment period ended November 24, 2008. No comments were received.

Title: Conveyance of Federally-owned Mineral Interests (43 CFR Part 2720).

OMB Number: 1004-0153.

Form Numbers: Nonform information.

Abstract: The information that is supplied allows the BLM to determine if private surface estate owners are eligible to receive title to the Federally-owned minerals lying beneath their land.

Current Action: This proposal is being submitted to extend the expiration date of March 31, 2009.

Type of Review: 3-year extension.

Affected Public: Surface-estate owners who apply for title to Federally-owned minerals lying beneath their land.

Obligation to Respond: Required to obtain or retain benefits.

Application Fee per Response: $50.

Estimated Number of Annual Responses: 21.

Estimated Time per Response: 10 hours.

Estimated Total Annual Burden Hours: 210 hours.

The BLM requests comments on the following subjects: (1) Whether the collection of information is necessary for the proper functioning of the BLM, including whether the information will have practical utility; (2) The accuracy of the BLM's estimate of the burden of the information collection, including the validity of the methodology and assumptions used; (3) The quality, utility, and clarity of the information collected; and (4) How to minimize the information collection burden on those who are to respond, including the use of appropriate automated, electronic, mechanical, or other forms of information technology.

Before including your address, phone number, e-mail address, or other personal identifying information in your comment, you should be aware that your entire comment—including your personal identifying information—may be made publicly available at any time. While you can ask us in your comment to withhold your personal identifying information from public review, we cannot guarantee that we will be able to do so.

Dated: March 20, 2009.
Jean Sonneman,
Bureau of Land Management, Acting Information Collection Clearance Officer.

[FR Doc. E9-6632 Filed 3-24-09; 8:45 am]

BILLING CODE 4310-84-P